FEDERAL COMMUNICATIONS COMMISSION

47 CFR Part 97

[WT Docket No. 16-239; FCC 23-93; FR ID 188661]

Amateur Radio Service Rules To Permit Greater Flexibility in Data Communications

AGENCY: Federal Communications Commission.

ACTION: Proposed rule.

SUMMARY: In this document, the Federal Communications Commission (Commission) adopted a Further Notice of Proposed Rulemaking (FNPRM) that proposes to remove the baud rate limitation in the 135.7-137.8 kHz (2200 meter band), 472-479 kHz (630 meter band), the very high frequency (VHF) bands, and the ultra-high frequency (UHF) band in the amateur radio service. The VHF bands with baud rates are the 6 meter band (50.1-51.0 MHz), (51.0-54.0 MHz); 2 meter band (144.1-148.0 MHz); and the 1.25 meter band (222-225 MHz). The UHF band with a baud rate is the 70 centimeter band (420-450 MHz). Additionally, the FNPRM proposes to maintain the existing bandwidth limitations in the Commission's rules for these VHF/UHF bands and seeks comment on the appropriate bandwidth limitation for the 2200 meter and 630 meter bands.

DATES: Comments due on or before January 8, 2024; reply comments due on or before January 22, 2024.

ADDRESSES: You may submit comments, identified by WT Docket No. 16-239, by any of the following methods:

• Electronic Filers: Comments may be filed electronically using the internet by accessing the ECFS: https://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: For additional information on this proceeding, contact Nellie Foosaner of the Wireless Telecommunications Bureau, Mobility Division, at (202) 418-2925 or nellie.foosaner@fcc.gov.

SUPPLEMENTARY INFORMATION: This is a summary of the Commission's Further Notice of Proposed Rulemaking, in WT Docket No. 16-239; FCC 23-93, adopted on November 13, 2023, and released on November 13, 2023. The full text of this document is available for public inspection online at https://docs.fcc.gov/public/attachments/FCC-23-93A1.pdf.

Synopsis

1. On November 13, 2023 the Commission adopted a Report and Order eliminating the baud rate applicable to certain amateur radio bands and implementing a 2.8 kHz bandwidth limitation in the applicable bands. There are multiple bands in the amateur radio service that have baud rate limitations and were not discussed in the Notice of Proposed Rulemaking (NPRM) underlying the Report and Order. Two bands—135.7-137.8 kHz (2200 meter) and 472-479 kHz (630 meter)—were allocated for use in the amateur radio service after the Commission released the NPRM in 2016. There are also multiple very high frequency (VHF) bands and one ultra-high frequency (UHF) band that have baud rate limitations. In the Further Notice of Proposed Rulemaking (FNPRM) the Commission proposes to remove the baud rate limitation in the two bands allocated for amateur radio use after the Commission released the NPRM in 2016 and in the VHF/UHF bands. Additionally, the Commission seeks comment on the appropriate bandwidth limitation for the 2200 meter and 630 meter bands, and proposes to maintain the existing bandwidth limitations in the Commission's rules for VHF/UHF bands.

2. In 2016, the Commission released the NPRM seeking comment on eliminating the baud rate limit in certain amateur bands and amending part 97 of the Commission's rules accordingly. The NPRM also tentatively concluded that a 2.8 kilohertz bandwidth limitation for RTTY and data emissions in the MF/HF bands was not necessary, but sought comment on this conclusion. The NPRM did not seek comment on eliminating the baud rate limit in the VHF or UHF bands allocated for amateur radio service. In 2017, the Commission adopted rules permitting fixed amateur radio operations in 135.7-137.8 kHz (2200 meter) and 472-479 kHz (630 meter) bands. These bands are allocated to the amateur radio service on a secondary basis. Consistent with the part 97 rules in effect for other amateur bands at that time, the Commission adopted a 300 baud rate limitation for both the 2200 meter band and the 630 meter band.

3. For the reasons outlined in the Report and Order, the Commission tentatively concludes that it should eliminate the baud rate limitation in the 2200 meter and 630 meter bands as well as the VHF and UHF amateur radio bands. These bands present the same technological opportunities for experimentation and innovation as the amateur radio service bands that are the subject of the Report and Order and likewise will be limited if a baud rate limitation is allowed to remain for these bands. Concomitantly, the Commission seeks comment on the appropriate bandwidth limitation for the 2200 meter band and the 630 meter band as well as on maintaining the bandwidth limitations already in the VHF and UHF bands. The Commission specifically seeks comment on these proposals. Alternatively, should it consider changing any of the existing bandwidth limitations in the VHF and UHF bands allocated to the amateur radio service? Commenters seeking to modify existing bandwidth limitations must provide support for the modification, including any associated costs and benefits. Commenters should focus their comments on the VHF and UHF bands and the 2200 meter band and the 630 meter band that were allocated for amateur radio service after the release of the NPRM. The Commission does not seek comment on other, unrelated issues in the docket at this time.

4. Digital Equity and Inclusion. Finally, the Commission, as part of its continuing effort to advance digital equity for all, including people of color, persons with disabilities, persons who live in rural or Tribal areas, and others who are or have been historically underserved, marginalized, or adversely affected by persistent poverty or inequality, invites comment on any equity-related considerations and benefits (if any) that may be associated with the proposals and issues discussed herein. Specifically, the Commission seeks comment on how our proposals may promote or inhibit advances in diversity, equity, inclusion, and accessibility, as well the scope of the Commission's relevant legal authority.

Procedural Matters

5. Regulatory Flexibility Certification. The Regulatory Flexibility Act of 1980, as amended (RFA) requires that an agency prepare a regulatory flexibility analysis for notice and comment rulemakings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the Small Business Administration (SBA).

6. In the FNPRM, the Commission proposes to amend the amateur service rules to change technical rules applicable to data emissions that an amateur radio operator may use in his or her communications with other amateur radio operators in the 135.7-137.8 kHz (2200 meter) and 472-479 kHz (630 meter) bands, and VHF and UHF bands. As discussed above, the RFA's definition of “small entities” does not include a “person” or an individual, as the terms are used in this proceeding. As a result, the proposed rules do not apply to “small entities,” but instead apply exclusively to individuals who hold certain Commission authorizations. Accordingly, applying the statutorily mandated criteria the Commission concludes and, therefore, certifies in this Initial Regulatory Flexibility Certification, that the rules adopted in the FNPRM will not have a significant economic impact on a substantial number of small entities.

7. The Commission will send copies of the FNPRM, including copies of the Initial Regulatory Flexibility Certification, to the Chief Counsel for Advocacy of the SBA.

8. Paperwork Reduction Act. This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

9. Providing Accountability Through Transparency Act: The Providing Accountability Through Transparency Act requires each agency, in providing notice of a rulemaking, to post online a brief plain-language summary of the proposed rule. Accordingly, the Commission will publish the required summary of this Further Notice of Proposed Rulemaking on https://www.fcc.gov/proposed-rulemakings.

Ordering Clauses

10. Accordingly, it is ordered that, pursuant to Sections 4(i), 5, 303(r), and 403 of the Communications Act of 1934, 47 U.S.C. 154(i), 155, 303(r), and 403 of the Commission's rules, that this Further Notice of Proposed Rulemaking is hereby adopted. Proceeding RM-11708 is terminated.

11. It is further ordered that the Office of the Secretary, Reference Information Center, shall send a copy of the Further Notice of Proposed Rulemaking including the Initial Regulatory Flexibility Certification, to the Chief Counsel for Advocacy of the Small Business Administration.

List of Subjects in 47 CFR Part 97

Radio.

Federal Communications Commission.
Marlene Dortch,
Secretary.

Proposed Rules

For the reasons discussed in the preamble, the Federal Communications Commission proposes to amend 47 CFR part 97 as follows:

PART 97—AMATEUR RADIO SERVICE

1. The authority citation for part 97 continues to read as follows:

Authority: 47 U.S.C. 151-155, 301-609, unless otherwise noted.

2. Section 97.307 is amended by revising paragraphs (f)(3), (5), and (6) to read as follows:

§ 97.307 Emission standards.

* * * * *

(f) * * *

(3) Only a RTTY or data emission using a specified digital code listed in § 97.309(a) may be transmitted.

* * * * *

(5) A RTTY, data or multiplexed emission using a specified digital code listed in § 97.309(a), or using an unspecified digital code under the limitations listed in § 97.309(b), may be transmitted. The authorized bandwidth is 20 kHz.

(6) A RTTY, data or multiplexed emission using a specified digital code listed in § 97.309(a), or using an unspecified digital code under the limitations listed in § 97.309(b), may be transmitted. The authorized bandwidth is 100 kHz.

* * * * *

[FR Doc. 2023-26769 Filed 12-6-23; 8:45 am]

BILLING CODE 6712-01-P